NUCLEAR REGULATORY COMMISSION

[Docket No. 50-346]

Firstenergy Nuclear Operating Company, Davis-Besse Nuclear Power Station, Unit 1; Notice of Withdrawal of Application for Amendment to Facility Operating License

The U.S. Nuclear Regulatory Commission (the Commission) has granted the request of FirstEnergy Nuclear Operating Company (the licensee) to withdraw its August 25, 2003, application for proposed amendment to Facility Operating License No. NPF-3; for the Davis-Besse Nuclear Power Station, Unit No. 1, located in Ottawa County, Ohio.

The proposed amendment would have revised the Technical Specifications (TSs) pertaining to the Steam and Feedwater Rupture Control System (SFRCS) instrumentation setpoints and surveillance intervals. Specifically, the proposed amendment would have clearly identified the appropriate actions to be taken if an SFRCS instrumentation channel's output logic becomes inoperable; relocated the SFRCS instrumentation trip setpoints from the TSs to the Updated Safety Analysis Report; and decreased the SFRCS instrument channel functional test frequency from monthly to quarterly and made associated changes to the trip setpoint allowable values.

The Commission had previously issued a Notice of Consideration of Issuance of Amendment published in the Federal Register on September 30, 2003 (68 FR 56343). However, by letter dated August 9, 2005, the licensee withdrew the proposed change.

For further details with respect to this action, see the application for amendment dated August 25, 2003 (Agencywide Documents Access and Management System (ADAMS) Accession No. ML032410076), as supplemented by letter dated June 4, 2004 (ADAMS Accession No. ML041610286), and the licensee's letter dated August 9, 2005 (ADAMS Accession No. ML052230259), which withdrew the application for license amendment. Documents may be examined, and/or copied for a fee, at the NRC's Public Document Room (PDR), located at One White Flint North, Public File Area 01 F21, 11555 Rockville Pike (first floor), Rockville, Maryland. Publicly available records will be accessible electronically from the ADAMS Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 18th day of August 2005.
For the Nuclear Regulatory Commission.
William A. Macon, Jr.,
Project Manager, Section 2, Project Directorate III, Division of Licensing Project Management, Office of Nuclear Reactor Regulation.

[FR Doc. E5-4646 Filed 8-24-05; 8:45 am]

BILLING CODE 7590-01-P